DEPARTMENT OF HEALTH AND HUMAN SERVICES

Administration for Children and Families

Proposed Information Collection Activity; Comment Request

Proposed Projects:

Title: Office of Community Services (OCS) Community Economic Development (CED) and Job Opportunities for Low-Income Individuals (JOLI) Standard Reporting Format.

OMB No.: New Collection.

Description: The Office of Community Services (OCS) is collecting key information about projects funded through the Community Economic Development (CED) and Job Opportunities for Low-Income Individuals (JOLI) programs. The legislative requirement for these two programs is in Title IV of the Community Opportunities, Accountability and Training and Educational Services Act (COATS Human Services Reauthorization Act) of October 27, 1998, Public Law 105-285, section 680(b) as amended. The Performance Progress Report (PPR) is a new proposed reporting format that will collect information concerning the outcomes and management of CED and JOLI projects. OCS will use the data to critically review the overall design and effectiveness of each program.

The PPR will be administered to all active grantees of the CED and JOLI programs. Grantees will be required to use this reporting tool for their semiannual reports. The majority of the questions in this tool were adapted from a previously approved questionnaire, Office of Management and Budget (OMB) Control Number: 0970-0317. Questions were also adapted to the OMB-approved reporting format of the PPR, specifically forms SF-PPR, SF-PPR-A, SF-PPR-B, and SF-PPR-E. Additional changes were made to improve the clarity and quality of the data and to eliminate unnecessary questions.

Respondents: Current CED and JOLI grantees.

Annual Burden Estimates
Instrument | Number of respondents | Number of responses per respondent | Average burden hours per response | Total burden hours
Questionnaire for current OCS-JOLI grantees | 40 | 2 | 1.50 | 120
Questionnaire for current OCS-CED grantees | 170 | 2 | 1.50 | 510
Estimated Total Annual Burden Hours |  |  |  | 630

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 18, 2010.
Robert Sargis,
Reports Clearance Officer.

[FR Doc. 2010-20892 Filed 8-23-10; 8:45 am]

BILLING CODE 4184-01-P